DEPARTMENT OF VETERANS AFFAIRS

[OMB Control No. 2900-New (VA Form 0913)]

Agency Information Collection (Applicant Background Survey) Activities Under OMB Review

AGENCY: Human Resources and Administration, Department of Veterans Affairs.

ACTION: Notice.

SUMMARY: In compliance with the Paperwork Reduction Act (PRA) of 1995 (44 U.S.C. 3501-3521), this notice announces that the Human Resources and Administration, Department of Veterans Affairs, will submit the collection of information abstracted below to the Office of Management and Budget (OMB) for review and comment. The PRA submission describes the nature of the information collection and its expected cost and burden and includes the actual data collection instrument.

DATES: Comments must be submitted on or before November 23, 2009.

ADDRESSES: Submit written comments on the collection of information through http://www.Regulations.gov; or to VA's OMB Desk Officer, OMB Human Resources and Housing Branch, New Executive Office Building, Room 10235, Washington, DC 20503 (202) 395-7316. Please refer to “OMB Control No. 2900-New (VA Form 0913)” in any correspondence.

FOR FURTHER INFORMATION CONTACT: Denise McLamb, Enterprise Records Service (005R1B), Department of Veterans Affairs, 810 Vermont Avenue, NW., Washington, DC 20420, (202) 461-7485, fax (202) 273-0443 or e-mail denise.mclamb@mail.va.gov. Please refer to “OMB Control No. 2900-New (VA Form 0913).”

SUPPLEMENTARY INFORMATION:

Titles: Applicant Background Survey, VA Form 0913.

OMB Control Number: 2900-New (0913).

Type of Review: New collection.

Abstract: VA Form 0913 will be used to collect data needed for planning and assessing affirmative employment program initiatives. The data will be used to report in an aggregated manner to the Equal Employment Opportunity Commission and to conduct aggregated adverse impact analysis to ensure VA's employment and selection decisions are fair and equitable.

An agency may not conduct or sponsor, and a person is not required to respond to a collection of information unless it displays a currently valid OMB control number. The Federal Register Notice with a 60-day comment period soliciting comments on this collection of information was published on August 13, 2009, at page 40868.

Affected Public: Individuals or households.

Estimated Total Annual Burden: 1,250.

Estimated Average Burden per Respondent: 5 minutes.

Frequency of Response: Annually.

Estimated Number of Respondents: 15,000.

Dated: October 18, 2009.
By direction of the Secretary.
Denise McLamb,
Program Analyst, Enterprise Records Service.

[FR Doc. E9-25476 Filed 10-22-09; 8:45 am]

BILLING CODE 8320-01-P